DEPARTMENT OF THE INTERIOR

Bureau of Land Management

[WY-921-1430 EU; WYW 153358]

Filing of Application for Conveyance of Federally Owned Mineral Interests; Carbon County, WY

AGENCY: Bureau of Land Management, Interior.

ACTION: Notice.

SUMMARY: BCR Company, LLC, has applied under section 209 of the Federal Land Policy and Management Act of 1976, 43 U.S.C. 1719, 43 CFR part 2720; to purchase the Federal mineral interests in the following described land:

Sixth Principal Meridian, Wyoming

T. 16 N., R. 82 W.,

Sec. 13, SE¼, E½SW¼, NW¼SW¼, SW¼NW¼;

Sec. 14, S½SW¼;

Sec. 22, S½SE¼;

Sec. 23, E½, E½W½, SW¼SW¼;

Sec. 24, all;

Sec. 25, N½;

Sec. 26, N½, N½S½, SW¼SW¼;

Sec. 27, E½, E½SW¼, SW¼SW¼.

The above described lands contains 2,920 acres.

FOR FURTHER INFORMATION CONTACT: Tamara Gertsch, Realty Specialist, BLM WY State Office, 5353 Yellowstone Road, Cheyenne, WY 82009, 307-775-6115.

SUPPLEMENTARY INFORMATION: Upon publication of this notice in the Federal Register, the mineral interests described above will be segregated from appropriation under the public land laws, including the mining laws. The segregative effect of the application shall terminate either upon issuance of a patent or other document of conveyance of such mineral interests, upon final rejection of the application, or two years from the date of filing of the application, April 16, 2001, whichever occurs first.

Dated: July 13, 2001.
Michael Madrid,
Chief, Branch of Fluid Minerals, Lands & Appraisal.

[FR Doc. 01-25171 Filed 10-5-01; 8:45 am]

BILLING CODE 4310-22-P